DEPARTMENT OF ENERGY

Federal Energy Regulatory Commission

[Docket No. RM04-10-000]

Notice Format and Technical Corrections; Notice of Availability of Notice Formats Pursuant to FERC Order No. 647

July 12, 2004.

Take notice that, pursuant to Order No. 647, issued June 3, 2004, the Federal Energy Regulatory Commission has posted on its Web site the forms of notice required to be included in various types of filings. The formats are available at www.ferc.gov under the Documents and Filing menu. Select Notice Formats.

The Commission's default format for issuances is Microsoft Word. To accommodate filers who may not have Word, the formats are also available in Rich Text Format. Formats are available for the notices required by:

1. 18 CFR 33.6: Notice of Application to Authorize Disposition of Jurisdictional Facilities.

2. 18 CFR 34.3: Application for Issuance of Securities.

3. 18 CFR 35.8(b): Electric Service Tariff Filings:

A. Filing of Initial Rate Schedules or Changes in Rate Schedules.

B. Compliance Filing in Response to a Commission Order.

4. 18 CFR 36.1(b)(1): Application for Transmission Services Under Section 211 of the Federal Power Act.

5. 18 CFR 154.209: Notice of Proposed Changes in Gas Tariff or of Compliance Filing:

A. Filing of Initial Rate Schedules or Revisions to Gas Tariff, and Compliance with Rulemakings.

B. Compliance Filing in Response to a Commission Order.

6. 18 CFR 157.6(b)(7): Application for Certificates of Public Convenience and Necessity and for Application for Abandonment Authorization.

7. 18 CFR 157.205(b)(5): Prior Notice Pursuant to Blanket Certificate under Section 7 of the Natural Gas Act.

8. 18 CFR 292.207(b)(4): Application for Qualifying Facility Status.

9. 18 CFR 358.1(d): Standards of Conduct—Request for Exemption.

10. 18 CFR 365.3(c): Application for Exempt Wholesale Generator Status.

11. 18 CFR 385.206(b)(10): Complaints (Rule 206).

12. 18 CFR 385.1104(a)(5): Petition for Adjustment Under the Natural Gas Policy Act.

The formats are also available in hardcopy format in the Commission's Public Reference Room located at 888 First Street, NE., Washington, DC 20426.

Magalie R. Salas,
Secretary.

[FR Doc. E4-1593 Filed 7-15-04; 8:45 am]

BILLING CODE 6717-01-P